ENVIRONMENTAL PROTECTION AGENCY

[EPA-HQ-OLEM-2024-0360; FRL 12146-02-OLEM]

Interim Framework for Advancing Consideration of Cumulative Impacts; Request for Comments

AGENCY: Environmental Protection Agency (EPA).

ACTION: Notice.

SUMMARY: The Environmental Protection Agency (EPA) is announcing a 90-day public comment period on the newly developed document Interim Framework for Advancing Consideration of Cumulative Impacts. The framework document is available at https://www.epa.gov/cumulative-impacts and in the docket (Docket ID No. EPA-HQ-OLEM-2024-0360). The Framework is intended to provide Environmental Protection Agency (EPA) programs with a foundation for developing approaches to incorporate analysis and consideration of cumulative impacts into their work, with the goal of achieving results that improve health and quality of life in America's communities.

DATES: Comments must be received on or before February 19, 2025.

ADDRESSES: You may send comments, identified by Docket ID No. EPA-HQ-OLEM-2024-0360 by the following method:

• Federal eRulemaking Portal: https://www.regulations.gov/. Follow the online instructions for submitting comments.

Instructions: All submissions received must include the Docket ID No. for this action. Comments received may be posted without change to https://www.regulations.gov/, including any personal information provided.

FOR FURTHER INFORMATION CONTACT: Charles Lee, Office of Environmental Justice and External Civil Rights (2201A), Environmental Protection Agency, 1200 Pennsylvania Ave NW, Washington DC 20460; telephone number: 202-564-2597; email address: Lee.Charles@epa.gov.

SUPPLEMENTARY INFORMATION: For EPA programs and regions, this newly developed document, Interim Framework for Advancing Consideration of Cumulative Impacts provides a shared reference point as they determine when and how to analyze and consider cumulative impacts. This framework is not intended to provide detailed instructions on how to consider cumulative impacts in specific contexts, nor does it set the expectation that the principles and approaches to considering cumulative impacts will be applied in every programmatic context. The EPA's programs will incorporate the Framework into their processes and programs, as appropriate, feasible, and consistent with applicable law, in ways that reflect programmatic and context-specific needs. Public input will be considered for potential incorporation into the document by the EPA for this non-regulatory action. Public input will also inform the EPA's expanding knowledge along with results from scientific research and program evaluation. The Interim Cumulative Impacts Framework can be found in the docket and at https://www.epa.gov/cumulative-impacts/interim-framework-advancing-consideration-cumulative-impacts.

Barry N. Breen,
Principal Deputy Assistant Administrator.

[FR Doc. 2024-27063 Filed 11-20-24; 8:45 am]

BILLING CODE 6560-50-P